DEPARTMENT OF TRANSPORTATION

Federal Aviation Administration

14 CFR Part 39

[Docket No. FAA-2013-0694; Directorate Identifier 2013-NM-097-AD]

RIN 2120-AA64

Airworthiness Directives; the Boeing Company Airplanes

AGENCY: Federal Aviation Administration (FAA), DOT.

ACTION: Notice of proposed rulemaking (NPRM).

SUMMARY: We propose to supersede airworthiness directive (AD) 2002-10-11, which applies to certain the Boeing Company Model 737-100, -200, -200C, -300, -400, and -500 series airplanes. AD 2002-10-11 currently requires repetitive inspections for cracking and corrosion of the aft pressure bulkhead, and corrective actions if necessary; and, for certain airplanes, enlargement of frame chord drain holes, and repetitive inspections of the frame chord drain path for debris, and corrective actions if necessary. Since we issued AD 2002-10-11, we have received three reports of severe corrosion in the area affected by that AD. This proposed AD would, for certain airplanes, reduce the repetitive inspection interval, and add repetitive inspections of the frame chord drain path for obstructions and debris, and corrective actions if necessary. This proposed AD would also limit corrosion and cracking repairs of the aft pressure bulkhead accomplished after the effective date of this AD to those approved by the FAA in a manner described therein. In reviewing AD 2002-10-11, we noted that the drain path inspection was not required for certain airplanes, and could be eliminated for all airplanes if operators accomplished certain actions required by AD 2002-10-11. This proposed AD would add a drain path inspection for all airplanes. We are proposing this AD to detect and correct corrosion or cracking of the aft pressure bulkhead, which could result in loss of the aft pressure bulkhead web and stiffeners, and consequent rapid decompression of the airplane.

DATES: We must receive comments on this proposed AD by September 30, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Alan Pohl, Aerospace Engineer, Airframe Branch, ANM-120S, FAA, Seattle Aircraft Certification Office, 1601 Lind Avenue SW., Renton, WA 98057-3356; phone: 425-917-6450; fax: 425-917-6590; email: alan.pohl@faa.gov.

SUPPLEMENTARY INFORMATION:

Comments Invited

We invite you to send any written relevant data, views, or arguments about this proposed AD. Send your comments to an address listed under the ADDRESSES section. Include “Docket No. FAA-2013-0694; Directorate Identifier 2013-NM-097-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 14, 2002, we issued AD 2002-10-11, Amendment 39-12757 (67 FR 36085, May 23, 2002), for certain Model 737-100, -200, -200C, -300, -400, and -500 series airplanes. AD 2002-10-11 superseded AD 84-20-03 R1, Amendment 39-5183 (50 FR 51235, December 16, 1985). AD 2002-10-11 requires repetitive inspections for cracking and corrosion of the aft pressure bulkhead, and corrective actions if necessary; and, for certain airplanes, enlargement of frame chord drain holes, repetitive inspections of the frame chord drain path for obstructions and debris, and corrective actions if necessary. We issued AD 2002-10-11 to detect and correct corrosion or cracking of the aft pressure bulkhead at body station (BS) 1016, which could result in loss of the aft pressure bulkhead web and stiffeners, and consequent rapid decompression of the fuselage.

Actions Since AD 2002-10-11, Amendment 39-12757 (67 FR 36085, May 23, 2002), Was Issued

Since 2010, we have received three reports of severe corrosion in the aft pressure bulkhead. Two of these airplanes were corroded completely through the thickness of the pressure web. The age of the airplanes when corrosion was found ranged from 12 to 17 years. The total flight hours ranged from 40,892 to 68,389 hours, and the total flight cycles ranged from 22,701 to 58,156 flight cycles.

AD 2002-10-11, Amendment 39-12757 (67 FR 36085, May 23, 2002), requires repetitive inspections for corrosion at 2-year intervals for airplanes having line numbers 1 through 1042, and at 4-year intervals for airplanes having line numbers 1043 through 3132. All reports of severe corrosion have been from the latter group of airplanes with the longer repetitive inspection interval.

In addition, repair procedures in Boeing Alert Service Bulletin 737-53A1075, Revision 3, dated June 8, 2000, which is specified in paragraph (g) of AD 2002-10-11, Amendment 39-12757 (67 FR 36085, May 23, 2002), as the appropriate source of service information, include instructions for blending out corrosion on the bulkhead web. The reworked web is more susceptible to subsequent corrosion.

After consultation with the manufacturer, we have determined that reduction of the interval for the repetitive inspections from 4 years to 2 years, together with removal of repair instructions for blending out corrosion on the bulkhead web, will reduce the frequency and severity of corrosion findings and provide an acceptable level of safety.

FAA's Determination

We are proposing this AD because we evaluated all the relevant information and determined the unsafe condition described previously is likely to exist or develop in other products of the same type design.

Proposed AD Requirements

This proposed AD would retain all requirements of AD 2002-10-11, Amendment 39-12757 (67 FR 36085, May 23, 2002). This proposed AD would reduce the interval for the repetitive inspections for airplanes having line numbers (L/N) 1043 through 3132 inclusive from 4 years to 2 years; and would provide an option to inspect only the aft side of the aft pressure bulkhead every 3 months for a maximum of 2 years, at which time both the forward and aft sides of the aft pressure bulkhead would require repetitive inspections at 2-year intervals. This proposed AD would, for certain airplanes, add repetitive inspections of the frame chord drain path for debris, and corrective actions if necessary.

Changes to AD 2002-10-11, Amendment 39-12757 (67 FR 36085, May 23, 2002)

This proposed AD would retain all the requirements of AD 2002-10-11, Amendment 39-12757 (67 FR 36085, May 23, 2002). Since AD 2002-10-11 was issued, the AD format has been revised, and certain paragraphs have been rearranged. As a result, the corresponding paragraph identifiers have changed in this proposed AD, as listed in the following table:

Revised Paragraph Identifiers
Requirement in AD 2002-10-11, Amendment 39-12757 (67 FR 36085, May 23, 2002) | Corresponding requirement in this proposed AD
paragraph (a) | paragraph (g)
paragraph (b) | paragraph (h)
paragraph (c) | paragraph (i)
paragraph (d) | paragraph (j)
paragraph (e) | paragraph (k)
paragraph (f) | paragraph (l)
paragraph (g) | paragraph (m)

Note 2 (detailed inspection definition) in AD 2002-10-11, Amendment 39-12757 (67 FR 36085, May 23, 2002), has been removed from this proposed AD because it is described in Figure 1 of Boeing Alert Service Bulletin 737-53A1075, Revision 3, dated June 8, 2000.

Paragraph (e) of AD 2002-10-11, Amendment 39-12757 (67 FR 36085, May 23, 2002), which is paragraph (k) in this proposed AD, has been revised to clarify that the required actions include inspecting the drain path in the chord frame for debris.

The terminating action statement in paragraph (e)(1) of AD 2002-10-11, Amendment 39-12757 (67 FR 36085, May 23, 2002), has been revised to terminate only the aft bulkhead inspection for cracking and corrosion in paragraph (g) of this proposed AD.

Since we issued AD 2002-10-11, Amendment 39-12757 (67 FR 36085, May 23, 2002), Boeing Commercial Airplanes received an Organization Designation Authorization (ODA). We have revised this proposed AD to delegate the authority to approve an alternative method of compliance for any repair required by this AD to the Boeing Commercial Airplanes ODA rather than a Designated Engineering Representative.

Differences Between the Proposed AD and the Service Information

Boeing Alert Service Bulletin 737-53A1075, Revision 3, dated June 8, 2000, describes instructions on how to repair certain conditions, but this proposed AD would require repairing those conditions in one of the following ways:

• In accordance with a method that we approve; or

• Using data that meet the certification basis of the airplane, and that have been approved by the Boeing Commercial Airplanes ODA whom we have authorized to make those findings.

This proposed AD would also reduce the repeat inspection interval for corrosion and cracking on airplanes having line numbers 1043 through 3132.

Costs of Compliance

We estimate that this proposed AD affects 419 airplanes of U.S. registry.

We estimate the following costs to comply with this proposed AD:

Estimated Costs
Action | Labor cost | Parts cost | Cost per product | Cost on U.S. operators
Inspection | 4 work-hours × $85 per hour = $340 per inspection cycle | $0 | $340 per inspection cycle | $142,460 per inspection cycle.

The new requirements of this proposed AD add no additional economic burden.

We estimate the following costs to do any necessary repairs that would be required based on the results of the proposed inspection. We have no way of determining the number of aircraft that might need these repairs:

On-Condition Costs
Action | Labor cost | Parts cost | Cost per product
Repair | Up to 136 work-hours × $85 per hour = Up to $11,560 | $5,217 | Up to $16,777.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2002-10-11, Amendment 39-12757 (67 FR 36085, May 23, 2002), and adding the following new AD:

The Boeing Company: Docket No. FAA-2013-0694; Directorate Identifier 2013-NM-097-AD.

(a) Comments Due Date

The FAA must receive comments on this AD action by September 30, 2013.

(b) Affected ADs

This AD supersedes AD 2002-10-11, Amendment 39-12757 (67 FR 36085, May 23, 2002).

(c) Applicability

This AD applies to The Boeing Company Model 737-100, -200, -200C, -300, -400, and -500 series airplanes, certificated in any category, line numbers 1 through 3132 inclusive.

(d) Subject

Joint Aircraft System Component (JASC)/Air Transport Association (ATA) of America Code 53, Fuselage.

(e) Unsafe Condition

This AD was prompted by three reports of severe corrosion in the area affected by AD 2002-10-11, Amendment 39-12757 (67 FR 36085, May 23, 2002). We are issuing this AD to detect and correct corrosion or cracking of the aft pressure bulkhead, which could result in loss of the aft pressure bulkhead web and stiffeners, and consequent rapid decompression of the airplane.

(f) Compliance

Comply with this AD within the compliance times specified, unless already done.

(g) Retained Initial Aft Pressure Bulkhead Inspection

This paragraph restates the requirements of paragraph (a) of AD 2002-10-11, Amendment 39-12757 (67 FR 36085, May 23, 2002), with clarification of the drain path inspection. For Model 737 series airplanes having line numbers (L/N) 1 through 929 inclusive, with more than 20,000 hours time-in-service or 7 years since date of manufacture, whichever occurs first: Within 120 days after January 20, 1986 (the effective date of AD 84-20-03 R1, Amendment 39-5183 (50 FR 51235, December 16, 1985)), unless already accomplished within the 21 months before January 20, 1986, visually inspect the body station (BS) 1016 pressure bulkhead, including inspecting for cracking and corrosion of the pressure bulkhead, and for debris in the drain path in the chord frame, according to Boeing Alert Service Bulletin 737-53A1075, Revision 1, dated September 2, 1983; Revision 2, dated July 13, 1984; or Revision 3, dated June 8, 2000. Remove any obstruction to the drain hole in the frame chord and replace any deteriorated leveling compound as noted in Boeing Alert Service Bulletin 737-53A1075, Revision 1, dated September 2, 1983; Revision 2, dated July 13, 1984; or Revision 3, dated June 8, 2000. Treat the area of inspection with corrosion inhibitor BMS 3-23, or equivalent. After the effective date of this AD, use only Boeing Alert Service Bulletin 737-53A1075, Revision 3, dated June 8, 2000, to do the actions required by this paragraph.

(h) Retained Drain Hole Enlargement

This paragraph restates the requirements of paragraph (b) of AD 2002-10-11, Amendment 39-12757 (67 FR 36085, May 23, 2002), with revised service bulletin requirements. For airplanes identified in paragraph (g) of this AD: Within 1 year after January 20, 1986 (the effective date of AD 84-20-03 R1, Amendment 39-5183 (50 FR 51235, December 16, 1985)), accomplish the drain hole enlargement as shown in Boeing Alert Service Bulletin 737-53A1075, Revision 1, dated September 2, 1983; Revision 2, dated July 13, 1984; or Revision 3, dated June 8, 2000. After the effective date of this AD, use only Boeing Alert Service Bulletin 737-53A1075, Revision 3, dated June 8, 2000, to do the actions required by this paragraph.

(i) Retained Corrective Action With Revised Compliance Methods

This paragraph restates the requirements of paragraph (c) of AD 2002-10-11, Amendment 39-12757 (67 FR 36085, May 23, 2002), with revised compliance methods. If cracking or corrosion is found during any inspection required by paragraph (g) or (j) of this AD: Before further flight, repair according to paragraph (i)(1) or (i)(2) of this AD, as applicable.

(1) If the inspection was done before the effective date of this AD: Repair according to Boeing Alert Service Bulletin 737-53A1075, Revision 1, dated September 2, 1983; Revision 2, dated July 13, 1984; or Revision 3, dated June 8, 2000.

(2) If the inspection was done on or after the effective date of this AD: Repair using a method approved in accordance with the procedures specified in paragraph (p) of this AD.

(j) Retained Repetitive Inspections Required by Paragraph (g) of This AD

This paragraph restates the requirements of paragraph (d) of AD 2002-10-11, Amendment 39-12757 (67 FR 36085, May 23, 2002), with revised actions. For airplanes identified in paragraph (g) of this AD: Repeat the visual inspections and corrosion inhibitor treatment specified in paragraph (g) of this AD at intervals not to exceed 2 years. Accomplishment of the initial aft pressure bulkhead inspection required by paragraph (k) of this AD terminates the inspection required by this paragraph.

(k) Retained Aft Bulkhead Detailed Inspection

This paragraph restates the requirements of paragraph (e) of AD 2002-10-11, Amendment 39-12757 (67 FR 36085, May 23, 2002), with revised terminating action. Do a detailed inspection for cracking or corrosion of the aft pressure bulkhead at BS 1016 (including the forward and aft sides of the pressure web, forward and aft sides of the pressure chord, pressure chord radius, forward and aft sides of the angle stiffener, forward and aft chord, stringer end fitting, system penetration doublers, channel stiffeners and fasteners, “Z” stiffeners and fasteners, and fasteners common to the pressure chord and pressure web), according to Boeing Alert Service Bulletin 737-53A1075, Revision 3, dated June 8, 2000. Do this inspection at the applicable time shown in paragraph (k)(1), (k)(2), or (k)(3) of this AD.

(1) For airplanes on which an inspection has previously been done according to the requirements of paragraph (g) of this AD: Do the inspection within 2 years since the most recent inspection according to paragraph (g) or (j) of this AD, as applicable. For the airplanes identified in paragraph (g) of this AD, accomplishment of the inspection required by paragraph (k) of this AD terminates the inspections for cracking and corrosion required by paragraph (j) of this AD.

(2) For airplanes having L/Ns 930 through 1042 inclusive, on which an inspection has not previously been done according to paragraph (g) of this AD: Do the inspection within 2 years after June 27, 2002 (the effective date AD 2002-10-11, Amendment 39-12757 (67 FR 36085, May 23, 2002)).

(3) For airplanes having L/Ns 1043 through 3132 inclusive, on which an inspection has not previously been done according to paragraph (g) of this AD: Do the inspection within 6 years since the airplane's date of manufacture, or within 2 years after June 27, 2002 (the effective date AD 2002-10-11, Amendment 39-12757 (67 FR 36085, May 23, 2002)), whichever occurs later.

(l) Retained Repetitive Inspections

This paragraph restates the requirements of paragraph (f) of AD 2002-10-11, Amendment 39-12757 (67 FR 36085, May 23, 2002), with revised compliance times. Repeat the inspection in paragraph (k) of this AD at the applicable time shown in paragraph (l)(1) or (l)(2) of this AD.

(1) For airplanes having L/Ns 1 through 1042 inclusive: Repeat the inspection thereafter at intervals not to exceed 2 years.

(2) For airplanes having L/Ns 1043 through 3132 inclusive: Repeat the inspection thereafter within 2 years since the last inspection or within 120 days after the effective date of this AD, whichever occurs later.

(m) Retained Repair

This paragraph restates the requirements of paragraph (g) of AD 2002-10-11, Amendment 39-12757 (67 FR 36085, May 23, 2002), with revised repair requirements. If any corrosion or cracking is found during any inspection according to paragraph (k) or (l) of this AD: Do the applicable action specified in paragraph (m)(1) or (m)(2) of this AD.

(1) If the inspection was done prior to the effective date of this AD: Before further flight, repair according to Boeing Alert Service Bulletin 737-53A1075, Revision 3, dated June 8, 2000. Exception: If corrosion or cracking of the web and stiffeners is outside the limits specified in Boeing Alert Service Bulletin 737-53A1075, Revision 3, dated June 8, 2000, or if corrosion or cracking is found in any structure not covered by the repair instructions in Boeing Alert Service Bulletin 737-53A1075, Revision 3, dated June 8, 2000, before further flight, repair according to a method approved by the Manager, Seattle Aircraft Certification Office (ACO), or per data meeting the type certification basis of the airplane approved by the Boeing Commercial Airplanes Organization Designation Authorization (ODA) who has been authorized by the Manager, Seattle ACO, to make such findings. For a repair method to be approved by the Manager, Seattle ACO, as required by this paragraph, the Manager's approval letter must specifically reference this AD.

(2) After the effective date of this AD, if any corrosion or cracking is found during any inspection required by this AD: Before further flight, repair the corrosion or cracking using a method approved in accordance with the procedures specified in paragraph (p) of this AD.

(n) New Drain Path Repetitive Inspection

For airplanes having L/N 1 through 3132 inclusive: Within 2 years since the last inspection in accordance with paragraph (k) of this AD or within 2 years after the effective date of this AD, whichever occurs later: Do a general visual inspection of the drain path in the chord frame for debris. Remove any obstruction to the drain hole in the frame chord and replace any deteriorated leveling compound. Treat the area of inspection with corrosion inhibitor BMS 3-23, or equivalent. Repeat the actions required by this paragraph at intervals not to exceed 2 years. Do all actions required by this paragraph in accordance with the Accomplishment Instructions of Boeing Alert Service Bulletin 737-53A1075, Revision 3, dated June 8, 2000. For the purposes of this AD, a general visual inspection is a visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.

(o) New Optional Repetitive Aft Pressure Bulkhead Inspection for Certain Airplanes and Corrective Action

For airplanes having L/Ns 1043 through 3132 inclusive: In lieu of performing the inspection required by paragraph (l) of this AD, operators may do the actions specified in this paragraph. Within 2 years from the most recent aft pressure bulkhead inspection done as specified in Boeing Alert Service Bulletin 737-53A1075, Revision 1, dated September 2, 1983; Revision 2, dated July 13, 1984; or Revision 3, dated June 8, 2000; or within 120 days after the effective date of this AD, whichever occurs later, do a detailed inspection for cracking or corrosion of the aft side of the aft pressure bulkhead at BS 1016 (including the aft sides of the pressure web, aft sides of the pressure chord, pressure chord radius, aft chord, stringer end fitting, system penetration doublers, and fasteners common to the pressure chord and pressure web), in accordance with the Accomplishment Instructions of Boeing Alert Service Bulletin 737-53A1075, Revision 3, dated June 8, 2000. If any corrosion or cracking is found: Before further flight, repair the corrosion or cracking using a method approved in accordance with the procedures specified in paragraph (p) of this AD. Repeat the inspection thereafter at intervals not to exceed 90 days. Within 2 years after the initial inspection done in accordance with this paragraph: Do the actions specified in paragraph (k) of this AD, and repeat thereafter at intervals not to exceed 2 years.

(p) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes ODA that has been authorized by the Manager, Seattle ACO, to make those findings. For a repair method to be approved, the repair must meet the certification basis of the airplane, and the approval must specifically refer to this AD.

(4) AMOCs approved previously in accordance with AD 2002-10-11, Amendment 39-12757 (67 FR 36085, May 23, 2002), are approved as AMOCs for the corresponding provisions of this AD.

(q) Related Information

(1) For more information about this AD, contact Alan Pohl, Aerospace Engineer, Airframe Branch, ANM-120S, FAA, Seattle Aircraft Certification Office, 1601 Lind Avenue SW., Renton, Washington 98057-3356; phone: (425) 917-6450; fax: (425) 917-6590; email: alan.pohl@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on August 9, 2013.
Jeffrey E. Duven,
Acting Manager, Transport Airplane Directorate, Aircraft Certification Service.

[FR Doc. 2013-19925 Filed 8-15-13; 8:45 am]

BILLING CODE 4910-13-P